DEPARTMENT OF THE INTERIOR

Office of the Secretary

[DT21200000 DST000000.T7AC00.241A]

Proposed Renewal of Information Collection: OMB Control Number 1035-0004, Trust Funds for Tribes and Individual Indians, 25 CFR Part 115

AGENCY: Office of the Secretary, Office of the Special Trustee for American Indians.

ACTION: Notice and request for comments.

SUMMARY: In compliance with the Paperwork Reduction Act of 1995, the Office of Special Trustee for American Indians, Office of the Secretary, Department of the Interior, announces the proposed extension of a public information collection and seeks public comments on the provisions thereof, regarding, “Trust Funds for Tribes and Individual Indians, 25 CFR 115,” OMB Control No. 1035-0004.

DATES: Consideration will be given to all comments received by May 20, 2016.

ADDRESSES: Send your written comments to Dianne M. Moran, Field Operations, Office of the Special Trustee for American Indians, 4400 Masthead St. NE., Albuquerque, New Mexico 87109. You may also email your comments to: Dianne_Moran@ost.doi.gov. Individuals providing comments should reference OMB control number 1035-0004, “Trust Funds for Tribes and Individual Indians, 25 CFR 115.”

FOR FURTHER INFORMATION CONTACT: To request a copy of the information collection request, any explanatory information and related forms, see the contact information provided in the ADDRESSES section above.

SUPPLEMENTARY INFORMATION:

I. Abstract

This notice is for renewal of information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8 (d)). This notice identifies an information collection activity that the Office of the Special Trustee for American Indians will submit to OMB for renewal.

The American Indian Trust Fund Management Reform Act of 1994 (the Reform Act) (Pub. L. 103-412) makes provisions for the Office of the Special Trustee for American Indians to administer trust fund accounts for individuals and tribes. The collection of information is required to facilitate the processing of deposits, investments, and distribution of monies held in trust by the U.S. Government and administered by the Office of the Special Trustee for American Indians. The collection of information provides the information needed to establish procedures to: Deposit and retrieve funds from accounts, perform transactions such as cashing checks, reporting lost or stolen checks, stopping payment of checks, and general verification for account activities.

II. Data

(1) Title: Trust Funds for Tribes and Individuals Indians, 25 CFR 115.

OMB Control Number: 1035-0004.

Current Expiration Date: July 31, 2016.

Type of Review: Information Collection Renewal.

Affected Entities: Individual Indians and Tribes who wish to initiate some activity on their trust accounts.

Obligation to respond: Required to obtain or retain a benefit.

Estimated annual number of respondents: 85,562.

Frequency of responses: As needed, estimated 4 per year.

(2) Annual reporting and recordkeeping burden:

Total annual reporting per response: 15 minutes.

Total number of estimated responses: 342,247.

Total annual reporting: 85,562 hours.

(3) Description of the need and use of the information: This information collection is needed and used to process deposits, investments, and distribution of monies from accounts held in trust by the Office of the Special Trustee for American Indians, individual Indians in the administration of these accounts. The respondents submit information in order to gain or retain a benefit, namely, access to funds held in trust.

III. Request for Comments

The Department of the Interior invites comments on:

(a) Whether the collection of information is necessary for the proper performance of the functions of the agency, including whether the information will have practical utility;

(b) The accuracy of the agency's estimate of the burden of the collection of information and the validity of the methodology and assumptions used;

(c) Ways to enhance the quality, utility, and clarity of the information to be collected; and

(d) Ways to minimize the burden of the collection of information on respondents, including the through the use of appropriate automated, electronic, mechanical, or other collection techniques or other forms of information technology.

“Burden” means the total time, effort, and financial resources expended by persons to generate, maintain, retain, disclose, or provide information to or for a Federal agency. This includes the time needed to review instructions; to develop, acquire, install, and utilize technology and systems for the purposes of collecting, validating and verifying information, processing and maintaining information, and disclosing and providing information; to train personnel and to be able to respond to a collection of information, to search data sources, to complete and review the collection of information; and to transmit or otherwise disclose the information.

All comments, with names and addresses, will be available for public inspection. Before including Personally Identifiable Information (PII), such as your address, phone number, email address, or other personal information in your comment(s), you should be aware that your entire comment (including PII) may be made available to the public at any time. If you wish us to withhold your personally identifiable information (PII), you must prominently state it at the beginning of your comments what information that you want us to withhold from public view. While you may ask us in your comment to withhold PII from public view, we cannot guarantee that we will be able to do so. If you wish to view any comments received, you may do so by scheduling an appointment with the Office of the Special Trustee for American Indians, by using the contact information in the ADDRESSES section above. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Dated: March 10, 2016.
Doug Lords,
Deputy Special Trustee—Field Operations, Office of the Special Trustee for American Indians.

[FR Doc. 2016-06235 Filed 3-18-16; 8:45 am]

BILLING CODE 4334-63-P